DEPARTMENT OF ENERGY

Federal Energy Regulatory Commission

[Docket No. CP08-433-000]

Canyon Creek Compression Company; Notice of Application

July 9, 2008.

Take notice that on June 30, 2008, Canyon Creek Compression Company (Canyon), 3250 Lacey Road, 7th Floor, Downers Grove, Illinois 60515, filed in the above referenced docket an application pursuant to section 7(b) of the Natural Gas Act (NGA), and Sections 157.7 and 157.18 of the Commission's regulations for an order granting a certificate of public convenience to abandon: (1) Its 22,000 horsepower (HP) compressor station and other appurtenant facilities located in Uinta County, Wyoming (CS 730) as authorized in Docket No. CP80-547, as amended; (2) its blanket certificate issued in Docket No. 89-1497-000 which authorized Canyon to compress/transport natural gas in interstate commerce for interstate pipelines and others pursuant to Subpart G of Part 284 of the Commission's regulations; (3) its blanket certificate issued in Docket No. CP92-18-000 which authorized Canyon to engage in certain routine jurisdictional activities and for permission and approval to abandon certain services and facilities, as specified in Subpart F of Part 157 of the Commission's regulations; and (4) its 10-inch tap located in Uinta County, Wyoming constructed under Canyon's blanket certificate in Docket No. CP92-18-000 used to deliver gas to Kern River Gas Transmission Company (Kern River). Canyon is also seeking authorization to be granted a three year period in which to determine the ultimate disposition of its facilities, whether it is by sale or physical removal of all or a portion of the facilities, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Bruce H. Newsome, Vice President, Canyon Creek Compression Company, 3250 Lacey Road, Downers Grove, Illinois 60515-7918, or (630) 725-3070, or bruce_newsome@kindermorgan.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: July 30, 2008.

Kimberly D. Bose,
Secretary.

[FR Doc. E8-16212 Filed 7-15-08; 8:45 am]

BILLING CODE 6717-01-P